DEPARTMENT OF DEFENSE

Department of the Navy

Notice of Public Meetings for the Draft Environmental Impact Statement for the Proposed Modernization and Expansion of Townsend Bombing Range, GA

AGENCY: Department of the Navy, DoD.

ACTION: Notice.

SUMMARY: Pursuant to Section (102)(2)(c) of the National Environmental Policy Act of 1969 (NEPA) (42 United States Code [U.S.C.] Sections 4321-4370h); the Council on Environmental Quality (CEQ) regulations for implementing the procedural provisions of NEPA (Title 40 Code of Federal Regulations (CFR) Parts 1500-1508); Department of the Navy Procedures for Implementing NEPA (32 CFR part 775); and Marine Corps NEPA directives (Marine Corps Order P5090.2A), the U. S. Marine Corps (USMC)as prepared and filed with the U.S. Environmental Protection Agency (EPA) a Draft Environmental Impact Statement (EIS) that evaluates potential environmental impacts of acquiring additional property and constructing the necessary infrastructure to allow the use of inert precision-guided munitions (PGMs) at Townsend Bombing Range (TBR), Georgia. Through the use of PGMs at TBR, the USMC can more efficiently meet current training requirements for pilots by significantly increasing air-to-ground training capabilities for Marine Air Group (MAG) 31 stationed at Marine Corps Air Station (MCAS) Beaufort, South Carolina.

With the filing of the Draft EIS, the USMC is initiating a 45-day public comment period and has scheduled two public open house meetings to receive oral and written comments on the Draft EIS. Federal, state and local agencies and interested parties are encouraged to provide comments in person at the public meetings, or in writing anytime during the public comment period. This notice announces the dates and locations of the public meetings and provides supplementary information about the environmental planning effort.

Dates and Addresses: The Draft EIS public review period will begin July 13, 2012 and end August 27, 2012. The two public meetings will inform the public about the proposed action and the alternatives under consideration, and provide an opportunity for the public to comment on the Draft EIS. USMC representatives will be on hand to discuss the NEPA process, findings, and the Proposed Action presented in the Draft EIS. The public meetings will be held from 4:00 p.m. to 7:00 p.m. on the following dates and at the following locations in Georgia:

(1) Tuesday, August 7, 2012 at McIntosh County Middle School Gymnasium 500 Green Street Darien, GA 31305.

(2) Thursday, August 9, 2012 at City Hall of Ludowici Meeting Room 469 North Macon Street Ludowici, GA 31316.

Copies of the Draft EIS are available for public review at the following public libraries:

Ida Hilton Public Library, 1105 North Way, Darien, GA, 31305;

Long County Public Library, 28 S. Main Street, Ludowici, GA, 31316; and Hog Hammock Public Library, 1023 Hillery Lane, Sapelo Island, GA, 31327.

The Draft EIS was distributed to Federal, State, and local agencies, elected officials, and other interested parties and individuals on July 13, 2012. The document can be viewed online and downloaded from http://www.townsendbombingrangeeis.com.

A copy of the Draft EIS will also be made available upon written request to Townsend Bombing Range EIS Project Manager, Post Office Box 180458, Tallahassee, Florida, 32318.

Comments: Attendees will be able to submit written comments at the public meeting; a stenographer will also be present to transcribe oral comments. Equal weight will be given to oral and written statements. Comments on the Draft EIS can be submitted via the project email address (townsendbombingrangeeise@ene.com), project Web site or submitted in writing to: Townsend Bombing Range EIS Project Manager, Post Office Box 180458, Tallahassee, Florida, 32318. All comments must be postmarked or electronically dated on or before August 27, 2012 to be sure they become part of the public record. All statements, oral transcription and written, submitted during the public review period will become part of the public record on the Draft EIS and will be responded to in the Final EIS.

For Further Assistance: Contact Capt. Cochran, 596 Geiger Blvd. MCAS Beaufort, SC 29904 at 843-228-6123. Please submit requests for special assistance, sign language interpretation for the hearing impaired, or other auxiliary aids at the public meeting to Capt. Cochran.

SUPPLEMENTARY INFORMATION: A Notice of Intent to prepare this EIS was published in the Federal Register on August 6, 2010 (Vol. 75, No. 151, pp. 47564-47565).

Purpose and Need: The purpose of the Proposed Action is to provide an air-to-ground training range capable of providing a wider variety of air-to-ground operations, including the use of PGMs, to meet current training requirements. The Proposed Action is needed to more efficiently meet current training requirements for USMC aviation assets by significantly increasing air-to-ground training capabilities in the Beaufort, South Carolina Region.

Proposed Action: The Proposed Action evaluated in the Draft EIS is to modernize and expand TBR to accommodate the MAG-31 requirement to train with inert PGMs and the larger Weapons Danger Zones (WDZs) their use requires. To accomplish this, the USMC proposes to acquire lands in the vicinity of TBR on which to create new target areas to allow for a greater variety of training activities. The Proposed Action includes five interrelated components:

(1) Acquisition of land adjacent to TBR to accommodate the larger WDZs required for PGM training. To effectively deliver PGMs at TBR, the land area must be increased to ensure the containment of the WDZs, allow for their realistic combat employment, and ensure the safety of military personnel and civilians present at and around TBR.

(2) Acquisition of a timber easement within the current TBR boundary to ensure public safety. It is necessary for the USMC to own all the timberland and to manage it in support of mission requirements.

(3) Modification of existing airspace Restricted Area R-3007C by extending the current restricted area laterally to the proposed acquisition area boundary. The purpose of this additional airspace is to exclude non-participating aircraft from intruding into hazardous operations, as required by Federal Aviation Administration regulations. The proposed modification would eliminate the current gap from 100 feet Above Ground Level down to the surface of the ground over the areas proposed for acquisition.

(4) Construction of Infrastructure to support PGM training. This includes the placement and/or construction of new targets, a new observation tower, and support facilities, as well as additional utilities, roads, and fencing.

(5) Improvement of training capabilities of the individual aircrew air-to-ground ordnance delivery training syllabus for the F/A-18. Currently, MAG 31 pilots can accomplish less than half of their air-to-ground training requirements at TBR. The expansion of TBR and the creation of new target areas would increase capabilities from 47 percent to 85 percent of the individual air-to-ground ordnance delivery training syllabus for the F/A-18 at TBR.

Alternatives Considered in the Draft EIS: The Draft EIS examines four action alternatives and a No Action Alternative. All four action alternatives would involve the acquisition and management of land and a timber easement, the modification of existing airspace, the infrastructure to support PGM training, and would result in the improvement of training capabilities. The land acquired under each action alternative would involve different strategic combinations of three possible land acquisition areas (referred to in the Draft EIS as “Acquisition Area 1A,” “Acquisition Area 1B,” and “Acquisition Area 3”). Similarly under all four action alternatives, the USMC proposes to modify the existing airspace based on the amount of land acquired. Any combination of the land proposed to be acquired would be under the current Restricted Area R-3007.

Alternative 1 includes Acquisition Area 1A and Acquisition Area 1B, totaling an acquisition of 11,187 acres. Alternative 1 also includes the acquisition of a 3,007-acre timber easement. Restricted Area R-3007A would be modified by extending the current restricted area laterally to the proposed acquisition area boundary. The proposed modification would eliminate the current gap from 100 feet above ground level down to the surface of the ground over the areas that are proposed for acquisition. Alternative 1 includes the construction of three new target areas: Target Area 6 (Airfield Site with Simulated Petroleum, Oil, and Lubricants [POL] Site/Fuel Farm); Target Area 7 (Urban Target Area [UTA]); and Target Area 8 (Fuel Farm/POL Site). Under Alternative 1, air-to-ground training capabilities would increase from 47 percent up to 72 percent.

Alternative 2 includes Acquisition Area 3, totaling an acquisition of 23,480 acres. Like Alternative 1, Alternative 2 also includes the acquisition of the timber easement and the same modification to existing airspace. Alternative 2 includes the construction of five new target areas: Target Area 1 (UTA); Target Area 2 (Terrorist Training Camp); Target Area 3 (Conventional Bull's Eye); Target Area 4 (Convoy Site); and Target Area 5 (Train Depot). Under Alternative 2, air-to-ground training capabilities would increase from 47 percent up to 85 percent.

Alternative 3 includes Acquisition Area 1A, Acquisition Area 1B, and Acquisition Area 3, totaling an acquisition of 34,667 acres. Like Alternatives 1 and 2, Alternative 3 includes the acquisition of the timber easement and the same modification to existing airspace. Alternative 3 includes the construction of eight new target areas (Target Areas 1, 2, 3, 4, 5, 6, 7, and 8), and training capabilities would increase from 47 percent up to 85 percent.

Alternative 4 (Preferred Alternative) includes Acquisition Area 1B and Acquisition Area 3, totaling an acquisition of 28,436 acres. Like Alternatives 1, 2, and 3, Alternative 4 includes the acquisition of the timber easement and the same modification to existing airspace. Alternative 4 includes the construction of six new target areas (Target Areas 1, 2, 3, 4, 5, and 8), and training capabilities would increase from 47 percent up to 85 percent.

No Action Alternative. Under the No Action Alternative, the Proposed Action would not take place and the status quo would continue, the USMC would not acquire any land for training purposes, and training operations at TBR would not change. The No Action Alternative would not provide a local East Coast range capable of supporting the use of PGMs by MAG-31. Aviation units stationed at MCAS Beaufort would continue to deploy to the southwestern United States to undergo PGM training and meet individual aircrew training requirements. TBR would continue to support current training operations, but would be unable to accommodate PGM training.

Environmental Issues: The Draft EIS evaluates the potential environmental effects associated with each of the alternatives. Issues addressed include: Land use; socioeconomics; recreation; wetlands; water resources; airspace; noise; biological resources; cultural resources; air quality; transportation; noise; biological resources; cultural resources; topography, geology, and soils; utilities and infrastructure; and hazardous materials and waste. The Draft EIS also analyzes cumulative impacts from other past, present, and reasonably foreseeable future actions occurring near the project area. Environmental consequences of the Proposed Action would principally arise from tax revenue and timber sales tax revenue lost in both McIntosh and Long Counties, Georgia. Relevant and reasonable measures that could alleviate environmental effects have been considered.

Schedule: A 45-day public comment period will start upon publication of the EPA Notice of Availability (NOA) in the Federal Register. Comments on the Draft EIS must be received by August 27, 2012. The Department of the Navy (DoN) will consider and respond to all comments received on the Draft EIS when preparing the Final EIS. The DoN expects to issue the Final EIS in spring 2013, at which time a NOA will be published in the Federal Register and local print media. A Record of Decision is expected in summer 2013.

J.M. Beal,
Lieutenant Commander, Office of the Judge Advocate General, U.S. Navy, Federal Register Liaison Officer.

[FR Doc. 2012-17098 Filed 7-12-12; 8:45 am]

BILLING CODE 3810-FF-P